FEDERAL COMMUNICATIONS COMMISSION

47 CFR Parts 2, 5 and 15

[ET Docket No. 18-21; Report No. 3131]

Petition for Reconsideration of Action in Rulemaking Proceeding

AGENCY: Federal Communications Commission.

ACTION: Petition for Reconsideration.

SUMMARY: A Petition for Reconsideration (Petition) has been filed in the Commission's rulemaking proceeding by Robert Bosch LLC, on behalf of Robert Bosch LLC.

DATES: Oppositions to the Petition must be filed on or before August 15, 2019. Replies to an opposition must be filed on or before August 26, 2019.

ADDRESSES: Federal Communications Commission, 445 12th Street SW, Washington, DC 20554.

FOR FURTHER INFORMATION CONTACT: Brian Butler, Policy and Rules Division, Office of Engineering and Technology (OET), at (202) 418-2702, email: Brian.Butler@fcc.gov.

SUPPLEMENTARY INFORMATION: This is a summary of the Commission's document, Report No. 3131, released July 18, 2019. The full text of the Petition is available for viewing and copying at the FCC Reference Information Center, 445 12th Street SW, Room CY-A257, Washington, DC 20554. It also may be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Spectrum Horizons, ET Docket No. 18-21, FCC 19-19, published at 84 FR 25685, July 5, 2019. This document is being published pursuant to 47 CFR 1.429(e). See also 47 CFR 1.4(b)(1) and 1.429(f), (g).

Number of Petitions Filed: 1.

Federal Communications Commission.
Marlene Dortch,
Secretary, Office of the Secretary.

[FR Doc. 2019-16332 Filed 7-30-19; 8:45 am]

BILLING CODE 6712-01-P